DEPARTMENT OF HEALTH AND HUMAN SERVICES

Health Resources and Services Administration

National Advisory Committee on Rural Health and Human Services; Notice of Meeting

In accordance with Section 10(a)(2) of the Federal Advisory Committee Act (Pub. L. 92-463), notice is hereby given of the following meeting:

NAME: National Advisory Committee on Rural Health and Human Services.

DATES AND TIMES:

September 14, 2016, 8:30 a.m.-5:00 p.m. MT

September 15, 2016, 8:30 a.m.-5:15 p.m. MT

September 16, 2016, 8:30 a.m.-11:00 a.m. MT

PLACE:

Albuquerque Marriott, 2101 Louisiana Boulevard NE., Albuquerque, New Mexico 87110, (505) 881-6800.

STATUS: The meeting will be open to the public.

PURPOSE: The National Advisory Committee on Rural Health and Human Services provides counsel and recommendations to the Secretary with respect to the delivery, research, development, and administration of health and human services in rural areas.

AGENDA: The meeting on Wednesday, September 14, will be called to order at 8:30 a.m. by the Chairperson of the Committee, the Honorable Ronnie Musgrove. The Committee will examine the issue of social determinants of health in rural areas. The day will conclude with a period of public comment at approximately 5:00 p.m.

The Committee will break into subcommittees and depart for site visits Thursday morning, September 15, at approximately 8:30 a.m. Subcommittees will visit the Presbyterian Medical Services Cuba Health Center in Cuba, New Mexico; the Laguna Pueblo, a federally recognized Native American tribe of the Pueblo people in Laguna, New Mexico; and the Guadalupe County Hospital in Santa Rosa, New Mexico. The day will conclude at the Albuquerque Marriott with the period of public comment at approximately 5:15 p.m.

On Friday, September 16, at 8:30 a.m., the Committee will meet at the Albuquerque Marriott to summarize key findings from the site visits and develop a work plan for the next quarter.

FOR FURTHER INFORMATION CONTACT: Steve Hirsch, MSLS, Administrative Coordinator, National Advisory Committee on Rural Health and Human Services, Health Resources and Services Administration, 5600 Fishers Lane, 17W41D, Rockville, MD 20857, Telephone (301) 443-0835, Fax (301) 443-2803.

Persons interested in attending any portion of the meeting should contact Pierre Joseph at the Federal Office of Rural Health Policy (FORHP) via telephone at (301) 945-0897 or by email at PJoseph@hrsa.gov. Individuals who plan to attend and need special assistance, such as sign language interpretation or other reasonable accommodations, should notify the contact person listed above at least 10 days prior to the meeting. The Committee meeting agenda will be posted on the Committee's Web site at http://www.hrsa.gov/advisorycommittees/rural/.

Jason E. Bennett,
Director, Division of the Executive Secretariat.

[FR Doc. 2016-20911 Filed 8-30-16; 8:45 am]

BILLING CODE 4165-15-P